DEPARTMENT OF COMMERCE

Foreign-Trade Zones Board

[Docket No. 7-2002]

Foreign-Trade Zone 153—San Diego, CA Application for Expansion

An application has been submitted to the Foreign-Trade Zones (FTZ) Board (the Board) by the City of San Diego, California, grantee of Foreign-Trade Zone 153, requesting authority to expand FTZ 153, San Diego, California, within the San Diego Customs port of entry. The application was submitted pursuant to the provisions of the Foreign-Trade Zones Act, as amended (19 U.S.C. 81a-81u), and the regulations of the Board (15 CFR Part 400). It was formally filed on January 30, 2002.

FTZ 153 was approved on October 14, 1988 (Board Order 394, 53 FR 41616, 10/24/88) and expanded on December 16, 1991 (Board Order 548, 56 FR 67057, 12/27/91). The zone project currently consists of seven sites within the City's Otay Mesa industrial area: Site 1 (316 acres)—at Brown Field, Otay Mesa and Heritage Roads; Site 2 (73 acres)—San Diego Business Park, Airway Road and State Route 125; Site 3 (60 acres)—Gateway Park, Harvest and Customs House Plaza Roads; Site 4 (71 acres)—Britannia Commerce Center, Siempre Viva Road and Britannia Boulevard; Site 5 (312 acres)—De La Fuente Business Park, Airway and Media Roads; Site 5A (119 acres)—Siempre Viva Business Park, adjacent to Site 5 (De La Fuente Business Park), along La Media and Siempre Viva Roads; Site 6 (160 acres)—Brown Field Business Park, Otay Mesa Road and Britannia Boulevard; Site 6A (65 acres)—Brown Field Technology Park, adjacent to Site 6 (Brown Field Business Park), across Otay Mesa Road from Brown Field; and, Site 7 (389 acres)—Otay International Center, Harvest and Airway Roads.

The applicant is now requesting authority to expand the general-purpose zone to include an additional site (Proposed Site 8) in the Otay Mesa area of San Diego. Proposed Site 8 (86 acres)—Ocean View Hills Corporate Center, Otay Mesa Road and Innovative Drive, San Diego. The site is owned by four private companies. Metro International is the proposed operator of the site. No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099—14th Street, NW, Washington, DC 20005; or

2. Submissions via the U.S. Postal Service: Foreign-Trade Zones Board, U.S. Department of Commerce, FCB—Suite 4100W, 1401 Constitution Avenue NW, Washington, DC 20230.

The closing period for their receipt is April 15, 2002. Rebuttal comments in response to material submitted during the foregoing period may be submitted during the subsequent 15-day period April 29, 2002.

A copy of the application and accompanying exhibits will be available during this time for public inspection at the City of San Diego, 600 B Street, 4th Floor-Suite 400, San Diego, California 92101.

Dated: February 1, 2002.
Dennis Puccinelli,
Executive Secretary.

[FR Doc. 02-3535 Filed 2-12-02; 8:45 am]

BILLING CODE 3510-DS-P